DEPARTMENT OF THE INTERIOR

Bureau of Land Management

[NM-030-1430-EU; NMNM 104125]

Recreation and Public Purposes Act Classification; Dona Ana County, NM

AGENCY: Bureau of Land Management, Interior.

ACTION: Notice of realty action.

SUMMARY: The Bureau of Land Management (BLM) has examined and found suitable for classification for lease or conveyance under the provisions of the Recreation and Public Purposes (R&PP) Act approximately 40.1 acres of public land in Dona Ana County, New Mexico. Dona Ana County proposes to use the land for a sports park and related facilities.

DATES: Comments must be received by not later than November 21, 2005.

ADDRESSES: Comments should be sent to the BLM, Las Cruces District Office, 1800 Marquess, Las Cruces, New Mexico 88005.

FOR FURTHER INFORMATION CONTACT: Lorraine Salas, Realty Specialist at the above address or by telephone at (505) 525-4388.

SUPPLEMENTARY INFORMATION: The following described public land in Dona Ana County, New Mexico has been examined and found suitable for classification for lease or conveyance under the provisions of the R&PP Act; as amended (43 U.S.C. 869 et seq.) and is hereby classified accordingly:

New Mexico Principal Meridian

T. 22 S., R. 3 E., NMPM

Sec. 7, NE¼SE¼

Containing 40.132 acres, more or less.

In accordance with the R&PP Act, Dona Ana County has filed an application and plan of development in which it is proposed to use the above described public land as a sports park and related facilities, devoted to community recreational pursuits. The land is not needed for Federal purposes. Lease or conveyance pursuant to the R&PP Act is consistent with the Mimbres Resource Management Plan dated December 1993 and would be in the public interest.

The lease or conveyance, when issued, will be subject to the following terms, conditions, and reservations.

1. Provisions of the R&PP Act and to all applicable regulations, including, but not limited to, the regulations stated at 43 CFR part 2740.

2. All valid existing rights of record, including those documented on the official public land records at the time of lease/patent issuance.

3. All minerals shall be reserved to the United States, together with the right to prospect for, mine, and remove the minerals under applicable laws and regulations established by the Secretary of the Interior.

4. Any other terms or reservations that the authorized officer determines appropriate to ensure public access and proper management of Federal lands and interests therein.

Detailed information concerning the proposed action, including but not limited to documentation relating to compliance with applicable environmental and cultural resource laws, is available for review at the BLM Las Cruces District Office, 1800 Marquess, Las Cruces, New Mexico 88005, telephone: (505) 525-4338. On October 6, 2005, the above described land will be segregated from all forms of appropriation under the public land laws, including the general mining laws, except for lease or conveyance under the R&PP Act and leasing under the mineral leasing laws. Interested persons may submit comments regarding the proposed lease/conveyance or classification of the land to the Manager of the BLM Las Cruces District Office at the address stated above in this notice for that purpose. Comments must be received by not later than November 21, 2005.

Classification Comments

Interested parties may submit comments involving the suitability of the land for a sports park and related facilities devoted to community recreational pursuits. Comments on the classification are restricted to whether the land is physically suited for the proposal, whether the use is consistent with local planning and zoning, or if the use is consistent with State and Federal programs.

Application Comments

Interested parties may submit comments regarding the specific use proposed in the application and plan of development, whether the BLM followed proper administrative procedures in reaching the decision, or any other factor not directly related to the suitability of the land for community recreation facilities.

Any adverse comments will be reviewed by the BLM New Mexico State Director. In the absence of any adverse comments, the classification will become effective on December 5, 2005.

(Authority: 43 CFR 2741.5).

Dated: September 19, 2005.
Edwin L. Roberson,
District Manager, Las Cruces.

[FR Doc. 05-20086 Filed 10-5-05; 8:45 am]

BILLING CODE 4310-VC-P